DEPARTMENT OF TRANSPORTATION

Surface Transportation Board

[STB Finance Docket No. 34919]

Montana Rail Link, Inc.—Trackage Rights Exemption—BNSF Railway Company

BNSF Railway Company (BNSF) has agreed to grant overhead trackage rights to Montana Rail Link, Inc. (MRL) over two rail segments: (1) From approximately milepost 68.17 to approximately milepost 69.0, a distance of approximately 0.83 miles at or near Spokane, WA; and (2) from approximately milepost 0.74 to approximately milepost 1.0, a distance of approximately 0.26 miles at or near Mossmain, MT. Both segments connect to track over which applicant already operates.

The transaction was scheduled to be consummated on or after October 2, 2006, the effective date of the exemption.

The purpose of the trackage rights is to provide additional operating room to promote better efficiency and service, solely for access to one customer (and any subsequent successor entities to that one customer) relocating from a point on applicant's line to a point on one of the trackage rights segments.

As condition to this exemption, any employees affected by the trackage rights will be protected by the conditions imposed in Norfolk and Western Ry. Co.—Trackage Rights—BN, 354 I.C.C. 605 (1978), as modified in Mendocino Coast Ry. Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34919, must be filed with the Surface Transportation Board, 1925 K Street, NW., Washington, DC 20423-0001. In addition, a copy of each pleading must be served on: Troy W. Garris, 1300 19th Street, NW., 5th Floor, Washington, DC 20036.

Board decisions and notices are available on our Web site at “http://www.stb.dot.gov.”

Decided: October 5, 2006.
By the Board, David M. Konschnik, Director, Office of Proceedings.
Vernon A. Williams,
Secretary.

[FR Doc. E6-16989 Filed 10-12-06; 8:45 am]

BILLING CODE 4915-01-P